FEDERAL ACCOUNTING STANDARDS ADVISORY BOARD

Notice of Release of Exposure Drafts on Implementation Guidance on Cleanup Costs Associated With Equipment, and Asbestos Cleanup Costs Associated With Facilities and Installed Equipment

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has released the Exposure Draft on Implementation Guidance on Cleanup Costs Associated With Equipment.

The exposure draft addresses important implementation questions regarding the consistent application of SFFAS 6 as it relates to cleanup costs associated with equipment. The Federal Accounting Standards Advisory Board (FASAB) also issued the Exposure Draft on Implementation Guidance on Asbestos Cleanup Costs Associated With Facilities and Installed Equipment.

The Exposure Draft addresses important implementation questions regarding the consistent application of TB2006-1 as it relates to asbestos cleanup costs associated with facilities and installed equipment.

The Exposure Drafts are available on the FASAB home page http://www.fasab.gov/exposure.html. Copies can be obtained by contacting FASAB at (202) 512-7350.

Respondents are encouraged to comment on any part of the exposure drafts. Written comments are requested by December 4, 2009, and should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pub. L. 92-463.

Dated: September 25, 2009.
Charles Jackson,
Federal Register Liaison Officer.

[FR Doc. E9-23663 Filed 9-30-09; 8:45 am]

BILLING CODE 1610-02-P